DEPARTMENT OF HOUSING AND URBAN DEVELOPMENT

[Docket No. FR-5123-N-11]

Notice of Submission of Proposed Information Collection to OMB; Emergency Comment Request, Alternative Housing Pilot Program Evaluation Baseline Survey

AGENCY: Office of the Assistant Secretary for Policy Development and Research, HUD.

ACTION: Notice of proposed information collection.

SUMMARY: The proposed information collection requirement described below has been submitted to the Office of Management and Budget (OMB) for emergency review and approval, as required by the Paperwork Reduction Act. The Department is soliciting public comments on the subject proposal.

DATES: Comments Due Date: May 22, 2007.

ADDRESSES: Interested persons are invited to submit comments regarding this proposal. Comments must be received within fourteen (14) days from the date of this Notice. Comments should refer to the proposal by name and should be sent to: HUD Desk Officer, Office of Management and Regulatory Affairs, Office of Management and Budget, New Executive Office Building, Washington, DC 20503.

FOR FURTHER INFORMATION CONTACT: Lillian L. Deitzer, Departmental Reports Management Officer, QDAM, Department of Housing and Urban Development, 451 Seventh Street, SW., Washington, DC 20410; e-mail Lillian_L_Deitzer@HUD.gov; telephone (202) 708-2374. This is not a toll-free number. Copies of available documents submitted to OMB may be obtained from Ms. Deitzer.

SUPPLEMENTARY INFORMATION: This Notice informs the public that the U.S. Department of Housing and Urban Development (HUD) has submitted to OMB, for emergency processing, a proposed information collection requirement as described below. This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Alternative Housing Pilot Program Evaluation Baseline Survey.

Description of Information Collection: The proposed information collection will collect baseline data from families before they received housing under FEMA's Alternative Housing Pilot Program. HUD is conducting an evaluation of AHPP. Four states affected by Hurricanes Katrina and Rita received AHPP grants to test out alternative approaches to providing temporary housing after a disaster. HUD is charged with measuring what benefits and costs are associated with each of the alternatives being implemented by the states. Measuring the program impact on health, satisfaction, and general well-being of the occupants are a key part of the evaluation. This baseline survey is needed to know the characteristics of eligible households applying to participate in the program. This information is critical as an evaluation tool to:

(1) Document the demographic characteristics of those that apply for the program;

(2) Provide information about how the disaster affected their pre-storm housing and information on their expectations at securing permanent housing at some point; and

(3) Capture limited baseline information for comparison at a later time on impact measures of interest (such as income, source of income, perceptions of housing and neighborhood quality, and physical and mental health).

These data are also important as covariates in estimating program impacts after 2 years and 4 years of occupancy. HUD is working with states to make selection of those that actually receive a unit (from a pool of those eligible and applying) to be random. A random selection process will allow HUD to evaluate program impacts by comparing the outcomes of those offered a unit against outcomes for those not offered a unit.

OMB Control Number: To be assigned.

Agency Form Numbers: None.

Members of Affected Public: Individuals still requiring temporary housing due to Hurricanes Katrina or Rita.

Estimation of the total number of hours needed to prepare the information collection including number of respondents, frequency of responses, and hours of response: The estimated number of burden hours needed to prepare the information collection is 4,167 hours; the number of respondents is estimated as 10,000, generating approximately 10,000 annual responses; the frequency of response is once at the time of application for the AHPP program; each response is estimated to take 25 minutes.

Status: Proposed new collection.

Authority: The Paperwork Reduction Act of 1995, 44 U.S.C. Chapter 35, as amended.

Dated: May 1, 2007.
Lillian L. Deitzer,
Departmental Reports Management Officer, Office of the Chief Information Officer.

[FR Doc. E7-8718 Filed 5-7-07; 8:45 am]

BILLING CODE 4210-67-P